SMALL BUSINESS ADMINISTRATION

[Disaster Declaration #21090 and #21091; PENNSYLVANIA Disaster Number PA-20019]

Administrative Declaration of a Disaster for the Commonwealth of Pennsylvania

AGENCY: U.S. Small Business Administration.

ACTION: Notice.

SUMMARY: This is a notice of an Administrative declaration of a disaster for the Commonwealth of Pennsylvania dated May 22, 2025.

Incident: Severe Storms and Flooding.

DATES: Issued on May 22, 2025.

Incident Period: May 13, 2025.

Physical Loan Application Deadline Date: July 21, 2025.

Economic Injury (EIDL) Loan Application Deadline Date: February 23, 2026.

ADDRESSES: Visit the MySBA Loan Portal at https://lending.sba.gov to apply for a disaster assistance loan.

FOR FURTHER INFORMATION CONTACT: Sharon Henderson, Office of Disaster Recovery & Resilience, U.S. Small Business Administration, 409 3rd Street SW, Suite 6050, Washington, DC 20416, (202) 205-6734.

SUPPLEMENTARY INFORMATION: Notice is hereby given as a result of the Administrator's disaster declaration, applications for disaster loans may be submitted online using the MySBA Loan Portal https://lending.sba.gov or other locally announced locations. Please contact the SBA disaster assistance customer service center by email at disastercustomerservice@sba.gov or by phone at 1-800-659-2955 for further assistance.

The following areas have been determined to be adversely affected by the disaster:

Primary County: Somerset.

Contiguous Counties:

Pennsylvania: Bedford, Cambria, Fayette, Westmoreland.

Maryland: Allegany, Garrett.

The Interest Rates are:

| Percent
For Physical Damage:
Homeowners with Credit Available Elsewhere | 5.625
Homeowners without Credit Available Elsewhere | 2.813
Businesses with Credit Available Elsewhere | 8.000
Businesses without Credit Available Elsewhere | 4.000
Non-Profit Organizations with Credit Available Elsewhere | 3.625
Non-Profit Organizations without Credit Available Elsewhere | 3.625
For Economic Injury:
Business and Small Agricultural Cooperatives without Credit Available Elsewhere | 4.000
Non-Profit Organizations without Credit Available Elsewhere | 3.625

The number assigned to this disaster for physical damage is 210906 and for economic injury is 210910.

The Commonwealth and State which received an EIDL Declaration are Pennsylvania and Maryland.

(Catalog of Federal Domestic Assistance Number 59008)

James Stallings,
Associate Administrator, Office of Disaster Recovery and Resilience.

[FR Doc. 2025-09654 Filed 5-28-25; 8:45 am]

BILLING CODE 8026-09-P